FEDERAL ENERGY REGULATORY COMMISSION

18 CFR Part 35

[Docket No. RM10-17-000]

Demand Response Compensation in Organized Wholesale Energy Markets; Technical Conference

AGENCY: Federal Energy Regulatory Commission.

ACTION: Announcement of technical conference.

SUMMARY: This provides notice of the date and organization for the technical conference relating to the Supplemental Notice of Proposed Rulemaking (NOPR) and Notice of Technical Conference issued on August 2, 2010, and published in the Federal Register August 6, 2010. As described in the Supplemental NOPR, the conference will address the use of a net benefits test for determining when to compensate demand response providers and the allocation of costs associated with demand response.

DATES: The technical conference will be held at the Federal Energy Regulatory Commission, 888 First Street, NE., Washington, DC 20426, on September 13, 2010, beginning at 9 a.m.

FOR FURTHER INFORMATION CONTACT:

David Hunger (Technical Information), Office of Energy Policy and Innovation, Federal Energy Regulatory Commission, 888 First Street, NE., Washington, DC 20426, (202) 502-8148, david.hunger@ferc.gov.

Caroline Daly (Technical Information), Office of Energy Policy and Innovation, Federal Energy Regulatory Commission, 888 First Street, NE., Washington, DC 20426, (202) 502-8931, Caroline.Daly@ferc.gov.

Helen Dyson (Legal Information), Office of the General Counsel, Federal Energy Regulatory Commission, 888 First Street, NE., Washington, DC 20426, (202) 502-8856, helen.dyson@ferc.gov.

SUPPLEMENTARY INFORMATION:

Supplemental Notice of Technical Conference and Notice of Comment Date

• August 27, 2010

Take notice that on September 13, 2010, the Federal Energy Regulatory Commission will convene a staff-led technical conference regarding two issues pertaining to demand response compensation, as previously announced: (1) If the Commission were to adopt a net benefits test for determining when to compensate demand response providers, what, if any, requirements should apply to the methods for determining net benefits; and (2) what, if any, requirements should apply to how the costs of demand response are allocated.¹ Comments concerning matters addressed at the technical conference and other issues related to this proceeding are due on or before October 13, 2010. Details concerning the technical conference and comment procedures are set forth below.

¹ Demand Response Compensation in Organized Wholesale Energy Markets, Notice of Proposed Rulemaking, 75 FR 15,362, 130 FERC ¶ 61,213 (issued March 18, 2010), as supplemented by Supplemental Notice of Proposed Rulemaking and Notice of Technical Conference (Supplemental Notice), 75 FR 47,499, 132 FERC ¶ 61,094 (issued August 2, 2010). As stated in the Supplemental Notice, comments are due within 30 days of the date of the technical conference. Supplemental Notice P 19.

I. Technical Conference

The technical conference will be held on September 13, 2010, starting at 9 a.m. (EST), in the Commission Meeting Room at the Federal Energy Regulatory Commission, 888 First Street, NE., Washington, DC 20426. The conference will be open for the public to attend and advance registration is not required. Members of the Commission may attend the conference.

As indicated in the Supplemental NOPR, the panelists are invited to discuss their views on the possible adoption of a net benefits test, including the methodologies for determining net benefits, and a methodology for allocating the costs of demand response.

In addition to the above-referenced issues and other matters directly relevant to this proceeding, discussions at the public technical conference may relate to matters pending in the following additional proceedings: Docket No. ER10-765-000, California Independent System Operator, Inc. (CAISO); and Docket Nos. ER09-1049-000, ER09-1049-002, and ER09-1049-003, Midwest Independent System Operator, Inc.

The agenda for this conference is attached. If any changes occur, the revised agenda will be posted on the Calendar of Events page on the Commission's Web site, http://www.ferc.gov, prior to the event. To ensure that all speakers have an opportunity to address the issues, and to have ample time for discussion, speakers are asked to limit their opening remarks to five minutes. Speakers are requested to file their opening remarks in this docket and to bring 30 copies to the conference.

Transcripts of the conference will be available immediately for a fee from Ace Reporting Company (202-347-3700 or 1-800-336-6646). They will be available for free on the Commission's eLibrary system and on the Calendar of Events approximately one week after the conference.

A free Webcast of the technical conference in this proceeding will be available. Anyone with Internet access interested in viewing this conference can do so by navigating to http://www.ferc.gov' s Calendar of Events and locating the appropriate event in the Calendar. The Calendar of Events will contain a link to the applicable Webcast option. The Capitol Connection provides technical support for the Webcasts and offers the option of listening to the conferences via phone-bridge for a fee. If you have any questions, visit http://www.CapitolConnection.org or call (703) 993-3100.

Commission conferences are accessible under section 508 of the Rehabilitation Act of 1973. For accessibility accommodations, please send an e-mail to accessibility@ferc.gov or call toll free 1-866-208-3372 (voice) or 202-208-1659 (TTY), or send a FAX to 202-208-2106 with the required accommodations.

For more information about the technical conference or comment procedures, please contact:

David Hunger (Technical Information), Office of Energy Policy and Innovation, Federal Energy Regulatory Commission, 888 First Street, NE., Washington, DC 20426, (202) 502-8148, David.Hunger@ferc.gov.

Caroline Daly (Technical Information) Office of Energy Policy and Innovation, Federal Energy Regulatory Commission, 888 First Street, NE., Washington, DC 20426, (202) 502-8931, Caroline.Daly@ferc.gov.

Helen Dyson (Legal Information), Office of the General Counsel, Federal Energy Regulatory Commission, 888 First Street, NE., Washington, DC 20426, (202) 502-8856, Helen.Dyson@ferc.gov.

Kimberly D. Bose,
Secretary.

[FR Doc. 2010-21974 Filed 9-2-10; 8:45 am]

BILLING CODE 6717-01-P